DEPARTMENT OF COMMERCE

International Trade Administration

(A-570-836)

Glycine from the People's Republic of China; Final Results of the Expedited Sunset Review of the Antidumping Duty Order

AGENCY: Import Administration, International Trade Administration, Department of Commerce.

SUMMARY: On June 1, 2005, the Department of Commerce (“the Department”) initiated a sunset review of the antidumping duty order on glycine from the People's Republic of China pursuant to section 751(c) of the Tariff Act of 1930, as amended (“the Act”). See Initiation of Five-year (Sunset) Reviews, 70 FR 31423 (June 1, 2005). On the basis of a notice of intent to participate and an adequate substantive response filed on behalf of the domestic interested parties and inadequate response from respondent interested parties (in this case, no response), the Department conducted an expedited sunset review of the antidumping duty order pursuant to section 751(c)(3)(B) of the Act and section 351.218(e)(1)(ii)(B) of the Department's regulations. As a result of this sunset review, the Department finds that revocation of the antidumping duty order would likely lead to continuation or recurrence of dumping at the levels indicated in the “Final Results of Review” section of this notice.

EFFECTIVE DATE: October 5, 2005.

FOR FURTHER INFORMATION CONTACT: Maureen Flannery, AD/CVD Operations, Import Administration, International Trade Administration, U.S. Department of Commerce, 14th Street and Constitution Avenue, NW, Washington, DC 20230; telephone: (202) 482-1388.

SUPPLEMENTARY INFORMATION:

Background

On June 1, 2005, the Department initiated a sunset review of the antidumping duty order on glycine from the People's Republic of China pursuant to section 751(c) of the Act. See Initiation of Five-year (Sunset) Reviews, 70 FR 31423 (June 1, 2005). The Department received a Notice of Intent to Participate from the following domestic interested parties: the Glycine Fair Trade Committee (“Committee”), an ad hoc coalition of domestic producers, and its individual members, Hampshire Chemical Corp. and Chattem Chemicals, Inc. (collectively “the domestic interested parties”), within the deadline specified in 19 CFR 351.218(d)(1)(I). The domestic interested parties claimed interested party status under section 771(9)(c) of the Act, as U.S. manufacturers of glycine, and sections 771(9)(E) and (F) of the Act, as a trade or business association of domestic manufacturers of glycine whose members are engaged in the production of glycine in the United States. The Department received a complete substantive response from the domestic interested parties within the 30-day deadline specified in 19 CFR 351.218(d)(3)(i). However, the Department did not receive any responses from the respondent interested parties to this proceeding. As a result, pursuant to section 751(c)(3)(B) of the Act and 19 CFR 351.218(e)(1)(ii)(C)(2), the Department conducted an expedited sunset review of this antidumping duty order.

Scope of the Order

The product covered by the order is glycine, which is a free-flowing crystalline material, like salt or sugar. Glycine is produced at varying levels of purity and is used as a sweetener/taste enhancer, a buffering agent, reabsorbable amino acid, chemical intermediate, and a metal complexing agent. This order covers glycine of all purity levels. Glycine is currently classified under subheading 2922.49.4020 of the Harmonized Tariff Schedule of the United States (HTSUS). In a separate scope ruling, the Department determined that D(-) Phenylglycine Ethyl Dane Salt is outside the scope of the order. See Notice of Scope Ruilings, 62 FR 62288 (November 21, 1997). Although the HTSUS subheading is provided for convenience and customs purposes, the written description of the merchandise under the order is dispositive.

Analysis of Comments Received:

All issues raised in this review are addressed in the Issues and Decision Memorandum (“Decision Memorandum”) from Barbara E. Tillman, Acting Deputy Assistant Secretary, Import Administration, to Joseph A. Spetrini, Acting Assistant Secretary for Import Administration, dated September 29, 2005, which is hereby adopted by this notice. The issues discussed in the accompanying Decision Memorandum include the likelihood of continuation or recurrence of dumping were the order revoked and the magnitude of the margin likely to prevail. Parties can find a complete discussion of all issues raised in this review and the corresponding recommendations in this public memorandum which is on file in the Central Records Unit, room B-099 of the main Commerce building. In addition, a complete version of the Decision Memorandum can be accessed directly on the Web at http://ia.ita.doc.gov/frn. The paper copy and electronic version of the Decision Memorandum are identical in content.

Final Results of Review

The Department determines that revocation of the antidumping duty order on glycine from the People's Republic of China would be likely to lead to continuation or recurrence of dumping at the rates listed below:

Producers/Exporters | Weighted-Average Margin (percent)
Baoding Mantong Fine Chemistry Co., Ltd. | 155.89
Nantong Dongchang Chemical Industry Corp. | 155.89
PRC-wide rate | 155.89

Notification regarding Administrative Protective Order:

This notice also serves as the only reminder to parties subject to administrative protective order (“APO”) of their responsibility concerning the return or destruction of proprietary information disclosed under APO in accordance with 19 CFR 351.305 of the Department's regulations. Timely notification of the return or destruction of APO materials or conversion to judicial protective order is hereby requested. Failure to comply with the regulations and terms of an APO is a violation which is subject to sanction.

We are issuing and publishing the results and notice in accordance with sections 751(c), 752, and 777(i)(1) of the Act.

Dated: September 29, 2005.
Barbara E. Tillman,
Acting Assistant Secretary for Import Administration.

[FR Doc. E5-5461 Filed 10-4-05; 8:45 am]

BILLING CODE 3510-DS-S